INTERNATIONAL TRADE COMMISSION

[Investigation No. 337-TA-553]

In the Matter of Certain NAND Flash Memory Devices and Products Containing Same; Notice of Determination To Grant the Joint Motion To Terminate the Investigation on the Basis of Settlement

AGENCY: U.S. International Trade Commission.

ACTION: Notice.

SUMMARY: Notice is hereby given that the U.S. International Trade Commission has determined to grant the joint motion to terminate the above-captioned investigation based on settlement.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 25, 2005, based on a complaint filed by Hynix Semiconductor Inc. of Korea; Hynix Semiconductor America Inc. of San Jose, California; and Hynix Semiconductor Manufacturing America Inc. of Eugene, Oregon (collectively, “Hynix”). The complaint, as supplemented and amended, alleged violations of section 337 of the Tariff Act of 1930 (19 U.S.C. 1337) in the importation into the United States, the sale for importation, and the sale within the United States after importation of certain NAND flash memory devices and products containing the same by reason of infringement of certain claims of United States Patent Nos. 5,509,995 and 5,869,404.

On November 20, 2006, the presiding administrative law judge (“ALJ”) issued his final initial determination (“ID”), finding no violation of section 337 by respondents Toshiba Corporation of Japan; Toshiba America Electronic Components, Inc. of Irvine, California; Toshiba America Information Systems, Inc. of Irvine, California; and Toshiba America Consumer Products, L.L.C. of Wayne, New Jersey (collectively, “Toshiba”). The Commission determined to review the ALJ's ID on January 11, 2007.

On March 21, 2007, Hynix and Toshiba jointly moved to terminate the investigation based on settlement. In the same motion papers, Hynix and Toshiba jointly moved to vacate the ID issued by the ALJ. In addition, Hynix withdrew its motion for sanctions against Toshiba, filed on August 18, 2006. On March 30, 2007, the Commission investigative attorney filed a response to the joint motion to terminate based on settlement, recommending that the Commission grant the motion.

Having examined the record of this investigation, the Commission has determined to grant the joint motion to terminate the investigation. In addition, the Commission has determined to deny the joint motion to vacate the ALJ's final ID.

The authority for the Commission's determination is contained in section 337 of the Tariff Act of 1930, as amended (19 U.S.C. 1337), and in section 210.21 of the Commission's Rules of Practice and Procedure (19 CFR 210.21).

Issued: April 16, 2007.
By order of the Commission.
Marilyn R. Abbott,
Secretary to the Commission.

[FR Doc. E7-7464 Filed 4-18-07; 8:45 am]

BILLING CODE 7020-02-P